ENVIRONMENTAL PROTECTION AGENCY

[FRL-8938-1]

Agreement and Covenant Not To Sue

AGENCY: Environmental Protection Agency.

ACTION: Notice and request for public comment.

SUMMARY: As required by the Comprehensive Environmental Response, Compensation, and Liability Act of 1980, 42 U.S.C. 9601, et seq., as amended (“CERCLA”), notice is hereby given that an Agreement and Covenant Not to Sue (“Agreement”) is proposed by the United States, on behalf of the Environmental Protection Agency (“EPA”), and the Redevelopment Agency of Salt Lake City (“Settling Respondent”) for a portion of the Utah Power and Light/American Barrel Superfund Site located in Salt Lake County, Utah (“Site”) which Settling Respondent is proposing to purchase (“the Property”).

The Site was listed on the National Priorities List in 1989. Historical operations on the Site, including a coal gasification plant, pole treating (creosote), railroad operations, and industrial barrel reclamation and storage resulted in the release of various types of hazardous substances into Site soils and shallow groundwater.

During the 1990s, Utah Power and Light Company (“UP&L”) undertook certain response actions at the Site, including the Property, in order to implement the Record of Decision issued by EPA for the Site. Specific response actions undertaken by UP&L associated with the Property included excavation, and removal of soils impacted by organic compounds (tar) and lead down to a depth of 15 feet. Construction completion was achieved in 1996 for the Site. EPA has conducted two five-year reviews in 2001 and 2006. The response action for the Site was and continues to be protective of human health and the environment. Active groundwater remediation efforts (soil vapor extraction) have been completed and shallow groundwater contamination is currently being addressed through monitored natural attenuation.

This Agreement requires the Settling Respondent to place an environmental covenant with use and activity restrictions on the Property and to pay the United States $30,000 for future oversight of the environmental covenant. In addition, the Settling Respondent will seek, to the maximum extent practicable, to have future developers incorporate the Environmentally Responsible Redevelopment and Reuse (“ER3”) components listed in Appendix D of the Agreement in future development of the Property.

DATES: Comments should be received by August 31, 2009. The Agency will consider all comments received on the proposed Agreement and may modify or withdraw its consent to the settlement if comments received disclose facts or considerations which indicate that the settlement is inappropriate, improper or inadequate. The Agency's response to any comments received will be available for public inspection at the EPA Superfund Record Center, 1595 Wynkoop Street, 3rd Floor, in Denver, Colorado.

ADDRESSES: The proposed settlement and additional background information relating to the settlement are available for public inspection at the EPA Superfund Records Center, 1595 Wynkoop Street, 3rd Floor, in Denver, Colorado. Comments and requests for a copy of the proposed settlement should be addressed to Sharon Abendschan, Enforcement Specialist (8ENF-RC), Technical Enforcement Program, U.S. Environmental Protection Agency, 1595 Wynkoop Street, Denver, Colorado, 80202-2466, (303) 312-6957, and should reference the Utah Power and Light proposed Agreement.

FOR FURTHER INFORMATION CONTACT: Richard Sisk, Legal Enforcement Attorney (ENF-L), Legal Enforcement Program, U.S. Environmental Protection Agency, 1595 Wynkoop Street, Denver, Colorado 80202-2466, (303) 312-6638.

It is so agreed:

Dated: July 22, 2009.
Eddie A. Sierra,
Acting Assistant Regional Administrator, Office of Enforcement, Compliance and Environmental Justice, Region 8.

[FR Doc. E9-18392 Filed 7-30-09; 8:45 am]

BILLING CODE 6560-50-P